DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 11, 2002.

Interested persons are invited to submit written comments regarding the subject matter of the investigations to the Director, Division of Trade Adjustment Assistance, at the address shown below, not later than February 11, 2002.

The petitions filed in this case are available for inspection at the Office of the Director, Division of Trade Adjustment Assistance, Employment and Training Administration, U.S. Department of Labor, Room C-5311, 200 Constitution Avenue, NW., Washington, DC 20210.

Signed at Washington, DC, this 31st day of December, 2001.
Edward A. Tomchick,
Director, Division of Trade Adjustment Assistance.

APPENDIX
[Petitions Instituted on 12/31/2001]
TA-W | Subject firm (petitioners) | Location | Date of petition | Product(s)
40,496 | Stanley Furniture Co. (Co.) | West End, NC | 12/20/2001 | Wood Furniture.
40,497 | Lundeen's, Inc. (Wkrs) | North Platte, NE | 12/19/2001 | Platinum and Palladium.
40,498 | Precision Twist Drill (USWA) | Rhinelander, WI | 11/20/2001 | Twist Drill Bits.
40,499 | Swift Spinning Mills (Co.) | Columbus, GA | 12/19/2001 | Ring Spun Cotton.
40,500 | Marubeni Denim (Co.) | Columbus, GA | 12/19/2001 | Denim Fabric.
40,501 | Motorola, Inc. (Wkrs) | Schaumburg, IL | 10/31/2001 | Telecommunication System Harware.
40,502 | Midcom (Co.) | Watertown, SD | 12/03/2001 | Transformers.
40,503 | International Paper (Wkrs) | Menasha, WI | 11/13/2001 | Silicone Coated Substrate.
40,504 | LTV Steel Corp (Wkrs) | East Chicago, IN | 12/19/2001 | Sheet Steel.
40,505 | Tee Tease LLC (Wkrs) | Commerce, CA | 10/31/2001 | Print T-Shirts.
40,506 | Sunrise Medical (Co.) | Oshkosh, WI | 10/29/2001 | Mobile Lifting Devices.
40,507 | Dresser Piping (IAMAW) | Bradford, PA | 09/24/2001 | Pipeline Products.
40,508 | Lexington Home Brands (Co.) | Spruce Pines, NC | 10/23/2001 | Furniture.
40,509 | Tmerys Kaolin (Co.) | Dry Branch, GA | 10/24/2001 | Kaolin Clay.
40,510 | Applied Concepts (Wkrs) | Warrendale, PA | 11/14/2001 | Hand Tools.
40,511 | Lea Wayne Knitting Mills (Wkrs) | Morristown, TN | 11/09/2001 | Socks/Hosiery.
40,512 | Robert Mitchell-Douglas (Co.) | Portland, ME | 12/14/2001 | Stainless Steel Pipe and Fittings.
40,513 | American Power Conversion (Wkrs) | West Warwick, RI | 12/12/2001 | Power Supplies.
40,514 | Senco Products, Inc (Wkrs) | Cincinnati, OH | 10/24/2001 | Staplers, Nailers, Fasteners.
40,515 | IEC Electronics (Wkrs) | Newark, NY | 10/04/2001 | Assemble Electronic Equipment.
40,516 | Bayer Clothing Group (UNITE) | Clearfield, PA | 12/04/2001 | Men's Tailored Suits.
40,517 | Artex International, Inc. (Co.) | Boiling Springs, NC | 11/23/2001 | Cloth Table Skirting and Napkins.
40,518 | Marconi (Wkrs) | Milwaukee, WI | 11/06/2001 | Telecommunication Cabinets.
40,519 | Agilent Technologies (Wkrs) | Liberty Lake, WA | 12/03/2001 | Electronic Test Equipment.
40,520A | Hoskins Manufacturing Co. (Co.) | Lewiston, MI | 11/19/2001 | Specialty Alloy Wires.
40,520 | Hoskins Manufacturing (Co.) | Mio, MI | 11/19/2001 | Specialty Alloy Wires.
40,521 | Republic Technologies (USWA) | Akron, OH | 11/19/2001 | Steel Bar.
40,522 | Johnson Controls Retail (Wkrs) | Reynoldsburg, OH | 11/08/2001 | Temperature and Lighting Controls.
40,523 | Parallax Power Components (Co.) | Goodland, IN | 12/17/2001 | Transformers.
40,524 | Intermetro Industries (Co.) | Douglas, GA | 11/19/2001 | Wire Steel Shelving.
40,525 | Boeing Company (The) (IAMAW) | Renton, WA | 12/18/2001 | Commercial Aircraft.

[FR Doc. 02-2334 Filed 1-30-02; 8:45 am]

BILLING CODE 4510-30-M